FEDERAL COMMUNICATIONS COMMISSION

[FR ID 76259]

SES Performance Review Board

AGENCY: Federal Communications Commission.

ACTION: Notice.

SUMMARY: As required by the Civil Service Reform Act of 1978, Chairwoman Jessica Rosenworcel has appointed the following executives to the Senior Executive Service (SES) Performance Review Board (PRB):

Trent Harkrader

Debra Jordan

Holly Saurer

Federal Communications Commission.
Katura Jackson,
Federal Register Liaison Officer.

[FR Doc. 2022-05229 Filed 3-10-22; 8:45 am]

BILLING CODE 6712-01-P